DEPARTMENT OF AGRICULTURE

Grain Inspection, Packers and Stockyards Administration

Opportunity for Designation in the State of Alabama; Saginaw, TX; Essex, IL; Springfield, IL; Savage, MN; and State of Washington Areas; Request for Comments on the Official Agencies Servicing These Areas

AGENCY: Grain Inspection, Packers and Stockyards Administration, USDA.

ACTION: Notice.

SUMMARY: The designations of the official agencies listed below will end on December 31, 2011. We are asking persons or governmental agencies interested in providing official services in the areas presently served by these agencies to submit an application for designation. In addition, we are asking for comments on the quality of services provided by the following designated agencies: Alabama Department of Agriculture and Industries (Alabama); Gulf Country Grain Inspection Service, Inc. (Gulf Country); Kankakee Grain Inspection, Inc. (Kankakee); Springfield Grain Inspection, Inc. (Springfield); State Grain Inspection, Inc. (State Grain); and Washington Department of Agriculture (Washington).

DATES: Applications and comments must be received by July 1, 2011.

ADDRESSES: Submit applications and comments concerning this notice using any of the following methods:

• Applying for Designation on the Internet: Use FGISonline (https://fgis.gipsa.usda.gov/default_home_FGIS.aspx) and then click on the Delegations/Designations and Export Registrations (DDR) link. You will need to obtain an FGISonline customer number and USDA eAuthentication username and password prior to applying.

• Submit Comments Using the Internet: Go to Regulations.gov (http://www.regulations.gov). Instructions for submitting and reading comments are detailed on the site.

• Hand Delivery/Courier Address: William A. Ashley, Acting Quality Assurance and Designation Branch Chief, Quality Assurance and Compliance Division, GIPSA, USDA, Room 1647-S, 1400 Independence Avenue, SW., Washington, DC 20250.

• Mail: William A. Ashley, Acting Quality Assurance and Designation Branch Chief, Quality Assurance and Compliance Division, GIPSA, USDA, STOP 3604, 1400 Independence Avenue, SW., Washington, DC 20250-3604.

• Fax: William A. Ashley, 202-690-2755.

• E-mail: William.A.Ashley@usda.gov.

Read Applications and Comments: All applications and comments will be available for public inspection at the office above during regular business hours (7 CFR 1.27(c)).

FOR FURTHER INFORMATION CONTACT: William A. Ashley, 202-720-8262 or William.A.Ashley@usda.gov.

SUPPLEMENTARY INFORMATION: Section 7(f)(1) of the United States Grain Standards Act (USGSA) (7 U.S.C. 71-87k) authorizes GIPSA's Administrator to designate a qualified applicant to provide official services in a specified area after determining that the applicant is better able than any other applicant to provide such official services. Under section 7(g)(1) of the USGSA, designations of official agencies are effective for 3 years unless terminated by the Secretary, but may be renewed according to the criteria and procedures prescribed in section 7(f) of the Act.

Areas Open for Designation

Alabama

• Pursuant to Section 7(f)(2) of the Act, the following geographic area, the entire State of Alabama, except those export port locations within the State, is assigned to this official agency.

Gulf Country

Pursuant to Section 7(f)(2) of the Act, the following geographic area in the State of Texas is assigned to this agency:

• Bounded on the North by the northern Young, Jack, Montague, Cooke, Grayson, Fannin, Lamar, Red River, Morris, and Marion County lines east to the Texas State line;

• Bounded on the East by the eastern Texas State line south to the southern Shelby County line;

• Bounded on the South by the southern Shelby, Rusk, Smith, Henderson, Navarro, Hill, Bosque, Hamilton, and Mills County lines west to the western Mills County line; and

• Bounded on the West by the western Mills, Comanche, Eastland, Stephens, and Young County lines north to the northern Young County line.

Kankakee

Pursuant to Section 7(f)(2) of the Act, the following geographic area, in the State of Illinois, is assigned to this official agency:

• Bounded on the North by the northern Bureau County line; the northern LaSalle and Grundy County lines; the northern Will County line east-southeast to Interstate 57;

• Bounded on the East by Interstate 57 south to U.S. Route 52; U.S. Route 52 south to the Kankakee County line;

• Bounded on the South by the southern Kankakee and Grundy County lines; the southern LaSalle County line west to State Route 17; State Route 17 west to U.S. Route 51; U.S. Route 51 north to State Route 18; State Route 18 west to State Route 26; State Route 26 south to State Route 116; State Route 116 south to Interstate 74; Interstate 74 west to the western Peoria County line; and

• Bounded on the West by the western Peoria and Stark County lines; the northern Stark County line east to State Route 40; State Route 40 north to the Bureau County line.

Springfield

Pursuant to Section 7(f)(2) of the Act, the following geographic area, in the State of Illinois, is assigned to this official agency:

• Bounded on the North by the northern Schuyler, Cass, and Menard County lines; the western Logan County line north to State Route 10; State Route 10 east to the west side of Beason;

• Bounded on the East by a straight line from the west side of Beason southwest to Elkhart on Interstate 55; a straight line from Elkhart southeast to Stonington on State Route 48; a straight line from Stonington southwest to Irving on State Route 16;

• Bounded on the South by State Route 16 west to the eastern Macoupin County line; the eastern, southern, and western Macoupin County lines; the southern and western Greene County lines; the southern Pike County line; and

• Bounded on the West by the western Pike County line west to U.S. route 54; U.S. Route 54 northeast to State Route 107; State Route 107 northeast to State Route 104; State Route 104 east to the western Morgan County line. The western Morgan, Cass, and Schuyler County lines.

The following grain elevator, located outside of the above contiguous geographic area, is part of this geographic area assignment: East Lincoln Farmers Grain Co., Lincoln, Logan County (located inside Central Illinois Grain Inspection, Inc.'s, area).

State Grain

Pursuant to Section 7(f)(2) of the Act, the following geographic area, the State of Minnesota, is assigned to this official agency:

• Hennepin, Ramsey, Washington, Carver, Scott, Dakota, Brown, Nicollet, Le Sueur, Rice, Goodhue, Watonwan, Blue Earth, Waseca, Steele, Dodge, McLeod, and Sibley Counties.

Washington

Pursuant to Section 7(f)(2) of the Act, the following geographic areas, in the States of Idaho, Oregon, and Washington, are assigned to this official agency:

• The northern half of the State of Idaho down to the northern boundaries of Adams, Valley, and Lemhi Counties.

• The entire States of Oregon and Washington, except those export port locations within the States that are serviced by GIPSA or assigned to this Official Agency.

Opportunity for Designation

Interested persons or governmental agencies may apply for designation to provide official services in the geographic areas specified above under the provisions of section 7(f) of the USGSA and 7 CFR 800.196(d). Designation in the specified geographic areas is for the period beginning January 1, 2012, and ending December 31, 2014. To apply for designation or for more information, contact William A. Ashley at the address listed above or visit GIPSA's Web site at http://www.gipsa.usda.gov.

Request for Comments

We are publishing this notice to provide interested persons the opportunity to comment on the quality of services provided by the Alabama, Gulf Country, Kankakee, Springfield, State Grain, and Washington official agencies. In the designation process, we are particularly interested in receiving comments citing reasons and pertinent data supporting or objecting to the designation of the applicants. Submit all comments to William A. Ashley at the above address or at http://www.regulations.gov.

We consider applications, comments, and other available information when determining which applicants will be designated.

Authority: 7 U.S.C. 71-87k.

J. Dudley Butler,
Administrator, Grain Inspection, Packers and Stockyards Administration.

[FR Doc. 2011-13452 Filed 5-31-11; 8:45 am]

BILLING CODE 3410-KD-P